DEPARTMENT OF TRANSPORTATION

Federal Aviation Administration

14 CFR Part 73

[Docket No. FAA-2016-7055; Airspace Docket No. 15-AWP-11]

Establishment of Restricted Area R-2306F; Yuma Proving Ground, AZ

AGENCY: Federal Aviation Administration (FAA), DOT.

ACTION: Final rule.

SUMMARY: This action establishes restricted area R-2306F in the vicinity of Laguna Army Airfield (LGF) at Yuma Proving Ground, AZ. The restricted area allows Yuma Proving Ground (YPG) to maximize the existing fixed infrastructure to support current and future hazardous test programs while minimizing the risk to public and non-participating aircraft. These programs involve ground and airborne testing of non-eye-safe lasers, high energy radars and the development of unproven weapon systems and this ensures the safer testing and evaluation of these programs without impacting non-participating aircraft and general public.

DATES: Effective date 0901 UTC, December 7, 2017.

FOR FURTHER INFORMATION CONTACT: Kenneth Ready, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the air traffic service route structure in the north central United States to maintain the efficient flow of air traffic.

History

On July 25, 2016, the FAA published in the Federal Register a notice of proposed rulemaking (NPRM) (81 FR 48364), Docket No. FAA-2016-7055, to establish restricted area R-2306F, Yuma Proving Ground, AZ.

Interested parties were invited to participate in this rulemaking effort by submitting written comments on the proposal. No comments were received.

Differences From the NPRM

Subsequent to publication of the NPRM, the FAA identified geographic coordinates to more accurately reflect the existing boundaries using digital charting capabilities. The geographic coordinates identifying Laguna Army Airfield required a slight adjustment to accurately reflect the exact location. The geographic coordinates before and after Laguna Army Airfield needed to be corrected to ensure the FAA digital database meet tolerances of gap analysis.

The Rule

The FAA is amending Title 14 Code of Federal Regulations (14 CFR) part 73 to establish a new restricted area (R-2306F) in the vicinity of Laguna Army Airfield (LGF) at Yuma Proving Ground, AZ. This action also incorporates the restricted area updates noted in the “Differences from the NPRM” section of this final rule. The FAA is taking this action for testing that includes both ground and air-to-ground propagation of non-eye-safe lasers, high power radars and developmental, unproven weapons systems. Testing includes the actual operation of these systems using various proven and unproven aircraft platforms. Due to the hazards of these systems, it is imperative that these activities be segregated within a restricted area. The changes from the NPRM are as follows:

R-2306F: The geographic coordinates proposed as “lat. 32°51′18″ N., long. 114°19′29″ W.” in the boundaries description are changed to “lat. 32°51′19″ N., long. 114°19′29″ W.” Additionally, the geographic coordinates proposed as “lat. 32°51′52″ N., long. 114°23′34″ W.” in the boundaries description are changed to “lat. 32°51′53″ N., long. 114°23′35″ W.” Lastly, the geographic coordinates proposed as “lat. 32°49′30″ N., long. 114°26′39″ W.” in the boundaries description are changed to “lat. 32°49′30″ N., long. 114°26′38″ W.” These coordinates are changed from the NPRM to ensure the FAA digital database meet tolerances of gap analysis.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of establishing a new restricted area (R-2306F) in the vicinity of Laguna Army Airfield (LGF) at Yuma Proving Ground, AZ, qualifies for FAA adoption as authorized under 40 CFR 1506.3, and in accordance with FAA Order 1050.1F, paragraphs 8-2 and 9-2, Adoption of Other Agencies' National Environmental Policy Act Documents, and Written Re-evaluations, and 7400.2L, paragraph 32-2-3.

FAA's environmental impact review included an independent evaluation and adoption of the Army's Supplemental Environmental Assessment (SEA) for Proposed Special Use Airspace at Laguna Army Airfield, Yuma, Arizona which included the establishment of Restricted Area Airspace R-2306F. The Army's SEA, for which the FAA was a cooperating agency, was published July 2015 with issuance of its Finding of No Significant Impact (FONSI) on September 28, 2015.

The FAA has carefully considered its statutory mandate under 49 U.S.C. 40103 to ensure the safe and efficient use of the National Airspace System as well as the other aeronautical goals and objectives discussed in the Army's SEA, and has determined that the Army's Proposed Action provides the best airspace combination for meeting the needs stipulated in its SEA, that the SEA adequately assesses and discloses the environmental impacts of the Proposed Action, and that all practicable means to avoid or minimize environmental harm from that alternative have been adopted. Additionally, the FAA has determined that there have not been substantial changes to the Army's Proposed Action relevant to environmental concerns, and that there are no significant new circumstances or information relevant to environmental concerns and bearing on the Proposed Action or its impacts. Therefore, the FAA has concluded that an additional supplement to the Supplemental EA is not required.

A copy of the FAA's Adoption EA and FONSI/ROD document is available at https://www.regulations.gov/ by referencing this docket number.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.23 [Amended]

2. Section 73.23 is amended as follows:

* * * * *

R-2306F, Yuma West, AZ [New]

Boundaries: Beginning at latitude 32°51′52″ N., longitude 114°26′52″ W.; to latitude 32°52′30″ N., longitude 114°21′03″ W.; to latitude 32°51′15″ N., longitude 114°21′03″ W.; to latitude 32°51′19″ N., longitude 114°19′29″ W.; then clockwise along a 3.5 NM arc centered at latitude 32°51′53″ N., longitude 114°23′35″ W.; to latitude 32°49′30″ N., longitude 114°26′38″ W.; to latitude 32°49′51″ N., longitude 114°26′38″ W.; to latitude 32°50′08″ N., longitude 114°26′3″ W.; to latitude 32°50′17″ N., longitude 114°26′19″ W.; to latitude 32°50′31″ N., longitude 114°26′17″ W.; to latitude 32°50′42″ N., longitude 114°26′9″ W.; to latitude 32°51′11″ N., longitude 114°26′34″ W.; to the point of beginning.

Designated altitudes: Surface to and including 1,700 feet MSL.

Time of Designation: Intermittent, 0600-1800 local time, Monday-Saturday; other times by NOTAM.

Controlling Agency: Yuma Approach Control, MCAS Yuma, AZ.

Using Agency: U.S. Army, Commanding Officer, Yuma Proving Ground, Yuma, AZ.

Issued in Washington, DC, on September 20, 2017.
Rodger A. Dean Jr.,
Manager, Airspace Policy Group.

[FR Doc. 2017-20590 Filed 9-25-17; 8:45 am]

BILLING CODE 4910-13-P